DEPARTMENT OF THE INTERIOR

Fish and Wildlife Service

[FWS-R7-R-2011-N136; 70133-1265-0000-S3]

Selawik National Wildlife Refuge, Kotzebue, AK; Revised Comprehensive Conservation Plan and Finding of No Significant Impact for Environmental Assessment

AGENCY: Fish and Wildlife Service, Interior.

ACTION: Notice of availability.

SUMMARY: We, the Fish and Wildlife Service (Service, USFWS), announce the availability of our revised comprehensive conservation plan (CCP) and finding of no significant impact (FONSI) for the Selawik National Wildlife Refuge (Refuge). In this revised CCP, we describe how we will manage the Refuge for the next 15 years.

ADDRESSES: You may view or obtain copies of the revised CCP and FONSI by any of the following methods. You may request a paper copy, a summary, or a CD-ROM containing both.

You may request hard copies or a CD-ROM of the document.

Agency Web Site: Download a copy of the document at http://alaska.fws.gov/nwr/planning/plans.htm.

E-mail: selawik_planning@fws.gov; please include “Selawik National Wildlife Refuge CCP” in the subject line of the message.

Fax: Attn: Jeffrey Brooks, (907) 786-3965, or Lee Anne Ayres, (907) 442-3124.

U.S. Mail: Jeffrey Brooks, U.S. Fish and Wildlife Service Regional Office, 1011 E. Tudor Road Mailstop 231, Anchorage, AK 99503.

In-Person Viewing or Pickup: Call (907) 786-3357 to make an appointment during regular business hours at the above address; or call (907) 442-3799 to make an appointment during regular business hours at the Selawik Refuge Headquarters in Kotzebue, AK.

FOR FURTHER INFORMATION CONTACT: Jeffrey Brooks, Planning Team Leader, at the above address, by phone at (907) 786-3839, or by e-mail at selawik_planning@fws.gov.

SUPPLEMENTARY INFORMATION:

Introduction

With this notice, we finalize the revised CCP for Selawik National Wildlife Refuge. We started this process through a notice of intent in the Federal Register (73 FR 57143; October 1, 2008). We made available our draft CCP and Environmental Assessment (EA) and requested comments in a notice of availability in the Federal Register (75 FR 65026, October 21, 2010). The draft CCP and EA evaluated three alternatives for managing the Refuge for the next 15 years.

The Selawik National Wildlife Refuge was established by the Alaska National Interest Lands Conservation Act (ANILCA) in 1980. Selawik Refuge straddles the Arctic Circle in northwestern Alaska, encompassing an area approximately the size of Connecticut. Refuge boundaries encompass approximately 3.2 million acres, of which approximately 2.5 million acres are administered by the U.S. Fish and Wildlife Service. Section 302(7)(B) of ANILCA states the purposes for which the Selawik Refuge was established: (1) To conserve fish and wildlife populations and habitats in their natural diversity; (2) to fulfill international treaty obligations of the United States with respect to fish and wildlife and their habitats; (3) to provide the opportunity for continued subsistence use by local residents; and (4) to ensure water quality and necessary water quantity within the Refuge.

Access to the Refuge is possible only by boat, float- or ski-equipped airplane, snowmobile, or dogsled team. Snowmobile trails provide vital links among the Alaska Native villages of the region in winter and are usually passable to travelers through the end of April. Several of these villages are located within or near the Refuge boundary, including Buckland, Noorvik, Selawik, Kiana, Ambler, Kobuk, and Shungnak.

The Draft CCP and EA for the Refuge were developed consistent with Section 304(g) of ANILCA. Based on public scoping, we identified eight major planning issues: (1) Protection of fish, wildlife, habitats, and subsistence; (2) management of access to refuge lands for community residents and the visiting public; (3) maintaining hunting opportunities; (4) addressing local public use needs; (5) maintaining water quality and quantity; (6) maintaining the wild character of the Refuge and quality visitor experiences; (7) proactively addressing the uncertainties of climate change; and (8) providing more outreach and better communication for the public. We considered and evaluated all of these issues through the alternatives, goals, and objectives addressed or described in the draft CCP and the EA.

CCP Alternatives We Considered

The draft CCP and EA described and evaluated three alternatives for managing the Refuge. These alternatives followed much of the same general management direction. Alternative A (the No-Action Alternative), required under the National Environmental Policy Act (NEPA), described continuation of current management activities. Under Alternative A, management of the Refuge would have continued to follow direction described in the 1987 CCP and record of decision as modified by subsequent program-specific plans (e.g., fisheries and fire management plans). Alternative A would have continued to protect and maintain the existing wildlife values, natural diversity, and ecological integrity of the Refuge. Human disturbances to fish and wildlife habitats and populations would have been minimal. Private and commercial uses of the Refuge would not have changed, and public uses employing existing access methods would have continued to be allowed. Opportunities would have been maintained to pursue traditional subsistence activities and recreational hunting, fishing, and other wildlife dependent activities. Opportunities would have been maintained to pursue research activities.

Alternative B (the Preferred Alternative) proposed to follow management direction described in the 1987 CCP and record of decision as modified by subsequent program-specific plans, but some of that management direction has been updated by changes in policy since the 1987 Selawik CCP was approved. Alternative B identified these specific changes in management direction and new goals and objectives for Refuge management that would be adopted regardless of which alternative is selected. Alternative B proposed continuing the policy of not making some public lands, which are intermingled with private lands, available for use by commercial guides and transporters whose clients are big game hunting. Alternative B proposed that a formal partnership be created between the Refuge and local entities to jointly maintain a shared facility of one or more buildings with capacity for office, meeting, and storage space in a community within the refuge. Alternative B proposed a study of traditional access for subsistence purposes. Alternative B proposed that local public use and access needs be addressed by creating formal partnerships between the Refuge and various local entities.

Alternative C would have continued to follow management direction described in Alternative A as modified by subsequent program-specific plans. Alternative C would have identified any specific changes or updates in management direction and adopted the new goals and objectives for Refuge management. Alternative C proposed that the Refuge manager could open or close some public lands, which are intermingled with private lands, to use by commercial guides and transporters whose clients are big game hunting. Alternative C proposed that the Refuge independently maintain a facility of one or more buildings with capacity for office, meeting, and storage space in a community within the refuge. Alternative C proposed the same study of traditional access for subsistence purposes. Alternative C would address local public use and access needs slightly differently from Alternative B by proposing to expand or improve some opportunities for public use and access on Refuge lands.

Changes Between Draft and Final Plan

The preferred alternative (Alternative B) was slightly modified as a result of public comments on the draft Plan. Use by commercial guides and transporters for big game hunting is not authorized by permit stipulation on refuge lands that are in close proximity to or intermingled with private lands in the northwest portion of the refuge. Alternative B was modified to authorize use by commercial guides and transporters in an additional 68,000 acres of the refuge. In addition, Alternative B was modified to indicate that, on a case-by-case basis, the refuge manager may authorize commercial use by special use permit for a part of the area where guiding is not authorized upon completion of a compatibility determination and a subsistence evaluation as required by ANILCA Section 810.

The management of shelter cabins on refuge lands in Alternative B was modified to include the following management. A formal partnership will be created among the Service, Selawik Refuge, Northwest Arctic Borough, NANA regional corporation, and local search and rescue organizations to formalize the roles and responsibilities of each partner in performing regular maintenance and/or replacement of shelter cabins on refuge lands. Members of the formal partnership will review the need for additional shelter cabins and appropriate location(s) for them, with the option of joint construction of an additional 1-2 shelter cabins or relocation of an existing shelter cabin on refuge lands.

Compliance With the National Environmental Policy Act

We are furnishing this notice to advise other agencies and the public of the availability of the final CCP and FONSI. Based on the review and evaluation of the information contained in the draft CCP and EA, we have determined that implementation of the final CCP does not constitute a major Federal action that would significantly affect the quality of the human environment within the meaning of Section 102(2)(c) of the National Environmental Policy Act (NEPA). Therefore, an Environmental Impact Statement will not be prepared. Future site-specific proposals discussed in the final CCP requiring additional NEPA compliance will be addressed in separate planning efforts with full public involvement.

Dated: September 22, 2011.
Geoffrey L. Haskett,
Regional Director, U.S. Fish and Wildlife Service, Anchorage, Alaska.

[FR Doc. 2011-25068 Filed 9-28-11; 8:45 am]

BILLING CODE 4310-55-P